DEPARTMENT OF TRANSPORTATION

Federal Motor Carrier Safety Administration

[Docket Nos. FMCSA-2008-0362 and FMCSA-2006-26367]

Motor Carrier Safety Advisory Committee and Medical Review Board Public Meetings

AGENCY: Federal Motor Carrier Safety Administration (FMCSA), DOT.

ACTION: Announcement of advisory committee public meetings.

SUMMARY: FMCSA announces a joint meeting of its Motor Carrier Safety Advisory Committee (MCSAC) and Medical Review Board (MRB) on Monday and Tuesday, September 21 and 22. Together, the MCSAC and MRB will identify concepts the Agency and stakeholders should consider in relation to the issue of health and wellness of drivers of commercial motor vehicles and the establishment of a driver wellness initiative, a non-regulatory public-private partnership of stakeholders to improve drivers' health. The MRB and MCSAC will discuss the structure, content, delivery, and evaluation of this initiative. The meeting is open to the public for its entirety.

DATES: The joint meeting will be held on Monday and Tuesday, September 21 and 22, 2015, from 9 a.m. to 4:30 p.m., Eastern Daylight Time (E.T.), at the Hyatt Regency Crystal City, 2799 Jefferson Davis Highway, Arlington, VA 22202. Copies of the MRB and MCSAC joint task statement and an agenda for the entire meeting will be made available in advance of the meeting at http://mrb.fmcsa.dot.gov and http://mcsac.fmcsa.dot.gov.

FOR FURTHER INFORMATION CONTACT: Ms. Shannon L. Watson, Senior Policy Advisor, Federal Motor Carrier Safety Administration, U.S. Department of Transportation, 1200 New Jersey Avenue SE., Washington, DC 20590, (202) 366-2551, mcsac@dot.gov.

Services for Individuals With Disabilities

For information on facilities or services for individuals with disabilities or to request special assistance at the meeting, contact Eran Segev at (617) 494-3174, eran.segev@dot.gov, by Wednesday, September 16.

SUPPLEMENTARY INFORMATION:

I. Background

MCSAC

Section 4144 of the Safe, Accountable, Flexible, Efficient Transportation Equity Act: A Legacy for Users (SAFETEA-LU, Pub. L. 109-59, 119 Stat. 1144, August 10, 2005) required the Secretary of Transportation to establish the MCSAC. The Moving Ahead for Progress in the 21st Century Act (MAP-21, Pub. L. 112-141) reauthorized the MCSAC through September 30, 2013, at which time its statutory authority expired, necessitating the establishment of MCSAC as a discretionary committee under FACA. Secretary Foxx established that effective September 30, 2013, through September 30, 2015. MCSAC provides advice and recommendations to the FMCSA Administrator on motor carrier safety programs and regulations, and operates in accordance with the Federal Advisory Committee Act (FACA, 5 U.S.C. App 2).

MRB

Section 4116 of SAFETEA-LU requires the Secretary of Transportation, with the advice of the MRB and the chief medical examiner, to establish, review, and revise “medical standards for operators of commercial motor vehicles that will ensure that the physical condition of operators of commercial motor vehicles is adequate to enable them to operate the vehicles safely.” The MRB operates in accordance with FACA under the terms of its charter, filed November 25, 2013.

II. Meeting Participation

Oral comments from the public will be heard throughout the meeting, at the discretion of the MCSAC and MRB chairmen. Members of the public may submit written comments on the topics to be considered during the meeting by Wednesday, September 16, to Federal Docket Management System (FDMC) Docket Number FMCSA-2008-0362 for the MRB and FMCSA-2006-26367 for the MCSAC using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE, Room W12-140, Washington, DC, between 9 a.m. and 5 p.m., E.T. Monday through Friday, except Federal holidays.

Issued on: September 1, 2015.
Larry W. Minor,
Associate Administrator for Policy.

[FR Doc. 2015-22046 Filed 9-3-15; 8:45 am]

BILLING CODE 4910-EX-P